DEPARTMENT OF COMMERCE

National Oceanic and Atmospheric Administration

50 CFR Part 648

RTID 0648-XB686

Fisheries of the Northeastern United States; Summer Flounder Fishery; Quota Transfers from NC to CT and ME to RI

AGENCY: National Marine Fisheries Service (NMFS), National Oceanic and Atmospheric Administration (NOAA), Commerce.

ACTION: Notification of quota transfer.

SUMMARY: NMFS announces that the states of North Carolina and Maine are transferring a portion of their 2021 commercial summer flounder quota to the states of Connecticut and Rhode Island, respectively. This adjustment to the 2021 fishing year quota is necessary to comply with the Summer Flounder, Scup, and Black Sea Bass Fishery Management Plan quota transfer provisions. This announcement informs the public of the revised 2021 commercial quotas for North Carolina, Maine, Connecticut, and Rhode Island.

DATES: Effective December 27, 2021, through December 31, 2021.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2021 allocations were published on December 21, 2020 (85 FR 82946).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would not preclude the overall annual quota from being fully harvested; the transfer addresses an unforeseen variation or contingency in the fishery; and the transfer is consistent with the objectives of the FMP and the Magnuson-Stevens Fishery Conservation and Management Act. The Regional Administrator has determined these three criteria have been met for the transfers approved in this notification.

North Carolina is transferring 40,000 lb (18,144 kg) to Connecticut and Maine is transferring 14,000 lb (6,350 kg) to Rhode Island through mutual agreement of the states. These transfers were requested to ensure Connecticut and Rhode Island would not exceed their 2021 quota. The revised summer flounder quotas for 2021 are: North Carolina, 2,878,480 lb (1,305,657 kg); Connecticut, 669,376 lb (303,624 kg); Maine, 33 lb (15 kg); and, Rhode Island, 1,922,724 lb (872,133 kg).

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: December 27, 2021.
Karen Abrams,
Acting Director, Office of Sustainable Fisheries, National Marine Fisheries Service.

[FR Doc. 2021-28370 Filed 12-27-21; 4:15 pm]

BILLING CODE 3510-22-P